DEPARTMENT OF ENERGY

Federal Energy Regulatory Commission

Combined Notice of Filings #1

Take notice that the Commission received the following electric rate filings:

Docket Numbers: ER13-127-003.

Applicants: Idaho Power Company.

Description: Resubmitted OATT Order No. 1000 Third Regional Compliance Filing to be effective 6/13/2014.

Filed Date: 6/18/14.

Accession Number: 20140618-5002.

Comments Due: 5 p.m. ET 7/7/14.

Docket Numbers: ER14-1882-001.

Applicants: Monongahela Power Company.

Description: Compliance Filing per 6/9/14 Order in ER14-1882 to be effective 6/1/2014.

Filed Date: 6/18/14.

Accession Number: 20140618-5072.

Comments Due: 5 p.m. ET 7/9/14.

Docket Numbers: ER14-1883-001.

Applicants: Allegheny Energy Supply Company, LLC.

Description: Compliance Filing per 6/9/14 Order in ER14-1883 to be effective 6/1/2014.

Filed Date: 6/18/14.

Accession Number: 20140618-5073.

Comments Due: 5 p.m. ET 7/9/14.

Docket Numbers: ER14-2200-000.

Applicants: ESI Vansycle Partners, L.P.

Description: ESI Vansycle Partners, L.P. Order No. 784 Compliance Filing to be effective 6/18/2014.

Filed Date: 6/17/14.

Accession Number: 20140617-5144.

Comments Due: 5 p.m. ET 7/8/14.

Docket Numbers: ER14-2201-000.

Applicants: FPL Energy Stateline II, Inc.

Description: FPL Energy Stateline II, Inc. Order No. 784 Compliance Filing to be effective 6/18/2014.

Filed Date: 6/17/14.

Accession Number: 20140617-5145.

Comments Due: 5 p.m. ET 7/8/14.

Docket Numbers: ER14-2202-000.

Applicants: FPL Energy Vansycle L.L.C.

Description: FPL Energy Vansycle, L.L.C. Order No. 784 Compliance Filing to be effective 6/18/2014.

Filed Date: 6/17/14.

Accession Number: 20140617-5150.

Comments Due: 5 p.m. ET 7/8/14.

Docket Numbers: ER14-2203-000.

Applicants: Limon Wind, LLC.

Description: Limon Wind, LLC Order No. 784 Compliance Filing to be effective 6/18/2014.

Filed Date: 6/17/14.

Accession Number: 20140617-5151.

Comments Due: 5 p.m. ET 7/8/14.

Docket Numbers: ER14-2204-000.

Applicants: Limon Wind II, LLC.

Description: Limon Wind II, LLC Order No. 784 Compliance Filing to be effective 6/18/2014.

Filed Date: 6/17/14.

Accession Number: 20140617-5153.

Comments Due: 5 p.m. ET 7/8/14.

Docket Numbers: ER14-2205-000.

Applicants: Logan Wind Energy LLC.

Description: Logan Wind Energy LLC Order No. 784 Compliance Filing to be effective 6/18/2014.

Filed Date: 6/17/14.

Accession Number: 20140617-5154.

Comments Due: 5 p.m. ET 7/8/14.

Docket Numbers: ER14-2206-000.

Applicants: Northern Colorado Wind Energy, LLC.

Description: Northern Colorado Wind Energy, LLC Order No. 784 Compliance Filing to be effective 6/18/2014.

Filed Date: 6/17/14.

Accession Number: 20140617-5158.

Comments Due: 5 p.m. ET 7/8/14.

Docket Numbers: ER14-2207-000.

Applicants: Peetz Table Wind Energy, LLC.

Description: Peetz Table Wind Energy, LLC Order No. 784 Compliance Filing to be effective 6/18/2014.

Filed Date: 6/17/14.

Accession Number: 20140617-5159.

Comments Due: 5 p.m. ET 7/8/14.

Docket Numbers: ER14-2208-000.

Applicants: Southern California Edison Company.

Description: GIA & Distrib Service Agmt SunEdison Utility Solutions, LLC—Mira Loma Project to be effective 6/19/2014.

Filed Date: 6/18/14.

Accession Number: 20140618-5003.

Comments Due: 5 p.m. ET 7/9/14.

Docket Numbers: ER14-2209-000.

Applicants: Duke Energy Progress, Inc.

Description: Amendment to RS 193 Cargill-DEP to be effective 6/14/2014.

Filed Date: 6/18/14.

Accession Number: 20140618-5023.

Comments Due: 5 p.m. ET 7/9/14.

Docket Numbers: ER14-2210-000.

Applicants: Duke Energy Conesville, LLC.

Description: 2nd Correction to MBR Tariff to be effective 5/1/2014.

Filed Date: 6/18/14.

Accession Number: 20140618-5057.

Comments Due: 5 p.m. ET 7/9/14.

Docket Numbers: ER14-2211-000.

Applicants: Duke Energy Dicks Creek, LLC.

Description: 2nd Correction to MBR Tariff to be effective 5/1/2014.

Filed Date: 6/18/14.

Accession Number: 20140618-5060.

Comments Due: 5 p.m. ET 7/9/14.

Docket Numbers: ER14-2212-000.

Applicants: Duke Energy Killen, LLC.

Description: 2nd Correction to MBR Tariff to be effective 5/1/2014.

Filed Date: 6/18/14.

Accession Number: 20140618-5063.

Comments Due: 5 p.m. ET 7/9/14.

Docket Numbers: ER14-2213-000.

Applicants: Duke Energy Miami Fort, LLC.

Description: 2nd Correction to MBR Tariff to be effective 5/1/2014.

Filed Date: 6/18/14.

Accession Number: 20140618-5065.

Comments Due: 5 p.m. ET 7/9/14.

Docket Numbers: ER14-2214-000.

Applicants: Duke Energy Stuart, LLC.

Description: 2nd Correction to MBR to be effective 5/1/2014.

Filed Date: 6/18/14.

Accession Number: 20140618-5067.

Comments Due: 5 p.m. ET 7/9/14.

Docket Numbers: ER14-2215-000.

Applicants: Duke Energy Zimmer, LLC.

Description: 2nd Correction to MBR Tariff to be effective 5/1/2014.

Filed Date: 6/18/14.

Accession Number: 20140618-5068.

Comments Due: 5 p.m. ET 7/9/14.

Docket Numbers: ER14-2216-000.

Applicants: Niagara Mohawk Power Corporation.

Description: Notice of Cancellation of Amended and Restated Transportation Services Agreement Rate Schedule No. 178 of Niagara Mohawk Power Corporation.

Filed Date: 6/18/14.

Accession Number: 20140618-5069.

Comments Due: 5 p.m. ET 7/9/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 18, 2014.
Nathaniel J. Davis, Sr.,
Deputy Secretary.

[FR Doc. 2014-14848 Filed 6-24-14; 8:45 am]

BILLING CODE 6717-01-P